DEPARTMENT OF ENERGY

Federal Energy Regulatory Commission

Combined Notice of Filings #1

Take notice that the Commission received the following electric rate filings:

Docket Numbers: ER08-1281-008.

Applicants: New York Independent System Operator, Inc.

Description: Report of New York Independent System Operator, Inc., submits additional loop flow-related analysis and data supporting studies.

Filed Date: 02/28/2011.

Accession Number: 20110228-5274.

Comment Date: 5 p.m. Eastern Time on Monday, March 21, 2011.

Docket Numbers: ER11-2962-000.

Applicants: Tropicana Manufacturing Company Inc.

Description: Tropicana Manufacturing Company Inc. submits tariff filing per 35.12: Application for Market Based Rate Authority to be effective 2/28/2011.

Filed Date: 02/28/2011.

Accession Number: 20110228-5172.

Comment Date: 5 p.m. Eastern Time on Monday, March 21, 2011.

Docket Numbers: ER11-2963-000.

Applicants: Green Mountain Energy Company.

Description: Green Mountain Energy Company submits tariff filing per 35.15: Cancellation of MBR Tariff to be effective 3/1/2011.

Filed Date: 02/28/2011.

Accession Number: 20110228-5181.

Comment Date: 5 p.m. Eastern Time on Monday, March 21, 2011.

Docket Numbers: ER11-2964-000.

Applicants: Tampa Electric Company.

Description: Tampa Electric Company submits tariff filing per 35.13(a)(2)(iii): Rate Schedule No. 96 with Seminole Electric Cooperative Inc. to be effective 2/28/2011.

Filed Date: 02/28/2011.

Accession Number: 20110228-5188.

Comment Date: 5 p.m. Eastern Time on Monday, March 21, 2011.

Docket Numbers: ER11-2965-000.

Applicants: NAEA Energy Massachusetts LLC.

Description: NAEA Energy Massachusetts LLC submits tariff filing per 35.37: NAEA Energy Massachusetts, LLC to be effective 8/6/2010.

Filed Date: 02/28/2011.

Accession Number: 20110228-5198.

Comment Date: 5 p.m. Eastern Time on Monday, March 21, 2011.

Docket Numbers: ER11-2966-000.

Applicants: Pacific Gas and Electric Company.

Description: Pacific Gas and Electric Company submits tariff filing per 35.13(a)(2)(iii): CCSF IA—2011 Annual Adjustment to Traffic Light Costs to be effective 2/1/2011.

Filed Date: 02/28/2011.

Accession Number: 20110228-5208.

Comment Date: 5 p.m. Eastern Time on Monday, March 21, 2011.

Docket Numbers: ER11-2967-000.

Applicants: Lakewood Cogeneration Limited Partnership.

Description: Lakewood Cogeneration Limited Partnership submits tariff filing per 35.37: Lakewood Cogeneration Limited Partnership to be effective 8/11/2010.

Filed Date: 02/28/2011.

Accession Number: 20110228-5213.

Comment Date: 5 p.m. Eastern Time on Monday, March 21, 2011.

Docket Numbers: ER11-2968-000.

Applicants: NAEA Ocean Peaking Power, LLC.

Description: NAEA Ocean Peaking Power, LLC submits tariff filing per 35.37: NAEA Ocean Peaking Power, LLC to be effective 8/6/2010.

Filed Date: 02/28/2011.

Accession Number: 20110228-5216.

Comment Date: 5 p.m. Eastern Time on Monday, March 21, 2011.

Docket Numbers: ER11-2969-000.

Applicants: NAEA Rock Springs, LLC.

Description: NAEA Rock Springs, LLC submits tariff filing per 35.37: NAEA Rock Springs, LLC to be effective 8/6/2010.

Filed Date: 02/28/2011.

Accession Number: 20110228-5219.

Comment Date: 5 p.m. Eastern Time on Monday, March 21, 2011.

Docket Numbers: ER11-2970-000.

Applicants: Peetz Logan Interconnect, LLC.

Description: Peetz Logan Interconnect, LLC submits tariff filing per 35.1: Peetz Logan Interconnect, LLC OATT to be effective 3/1/2011.

Filed Date: 02/28/2011.

Accession Number: 20110228-5232.

Comment Date: 5 p.m. Eastern Time on Monday, March 21, 2011.

Docket Numbers: ER11-2971-000.

Applicants: Tampa Electric Company.

Description: Tampa Electric Company submits tariff filing per 35.13(a)(2)(iii): Rate Schedule No. 94 with Progress Energy Florida to be effective 2/28/2011.

Filed Date: 02/28/2011.

Accession Number: 20110228-5245.

Comment Date: 5 p.m. Eastern Time on Monday, March 21, 2011.

Docket Numbers: ER11-2972-000.

Applicants: New England Power Pool Participants Committee.

Description: New England Power Pool Participants Committee submits tariff filing per 35.13(a)(2)(iii): March 2011 Membership Filing to be effective 2/1/2011.

Filed Date: 02/28/2011.

Accession Number: 20110228-5249.

Comment Date: 5 p.m. Eastern Time on Monday, March 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: March 1, 2011.
Nathaniel J. Davis, Sr.,
Deputy Secretary.

[FR Doc. 2011-5134 Filed 3-7-11; 8:45 am]

BILLING CODE 6717-01-P